DEPARTMENT OF HEALTH AND HUMAN SERVICES

Centers for Disease Control and Prevention

[30DAY-49-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Reducing the Risk of Zoonotic Disease Transmission at Petting Zoos and Fairs: A Survey of Current Practices—New—National Center for Infectious Diseases (NCID), Centers for Disease Control and Prevention. The purpose of this project is reduce transmission of zoonotic disease to those persons who interact with farm animals in a number of different settings. Though most of these interactions probably do not result in human illness, several recent outbreaks have highlighted the potential danger of infectious disease transmission in venues where the public comes into contact with animals and their environment. A large outbreak of E. coli O157:H7 infections among visitors to a petting zoo in Pennsylvania in 2000 prompted CDC to develop recommendations to address this issue. Several large outbreaks of E. coli O157:H7 have also occurred at county fairs from persons being exposed to animals and their environment. No state or federal laws exist that deal specifically with public health issues relating to interactions between the public and farm animals.

The proposed study consists of a self-administered, written questionnaire mailed to petting zoos and fairs (state, regional, and county). The survey asks individuals to describe their zoo or fair's current practices regarding human interaction with animals, food and beverage consumption in relation to animal interaction areas, and handwashing facilities. The list of zoos comes from facilities licensed by the U.S. Department of Agriculture to show animals for commercial purposes. The list of fairs comes from the International Association of Fairs and Expositions, a private trade organization that volunteered to participate with CDC in having its members complete this survey. Study objectives are to describe current practices and to determine how CDC, other federal agencies, and non-governmental organizations can best educate zoos and fairs about safe animal-human interaction. There is no cost to respondents.

Survey | Number of respondents | Number of responses/respondent | Average burden/response (in hours)
Written Questionnaire | 1,400 | 1 | 10/60

Dated: June 2, 2003.
Thomas A. Bartenfeld,
Acting Associate Director for Policy, Planning and Evaluation, Centers for Disease Control and Prevention.

[FR Doc. 03-14384 Filed 6-6-03; 8:45 am]

BILLING CODE 4163-18-P